DEPARTMENT OF COMMERCE

National Oceanic and Atmospheric Administration

DEPARTMENT OF THE INTERIOR

Fish and Wildlife Service

[I.D. 020200D]

Availability of the Record of Decision for the Proposed Modification of a Habitat Conservation Plan With Respect to a Permit Allowing Incidental Take of Threatened and Endangered Species for Plum Creek Timber Company Lands in the Interstate-90 Corridor of King and Kittitas Counties, Washington

AGENCIES: National Marine Fisheries Service (NMFS), National Oceanic and Atmospheric Administration, Commerce; Fish and Wildlife Service (FWS), Interior.

ACTION: Notice of decision.

SUMMARY: This notice advises the public that NMFS and FWS (the Services) have decided to approve a request by Plum Creek Timber Company (Plum Creek) to modify the Plum Creek Cascades Habitat Conservation Plan (HCP) incidental take permit (PRT-808398), issued pursuant to section 10(a)(1)(B) of the Endangered Species Act of 1973, as amended, by incorporating the results of the Interstate-90 Land Exchange Act (I-90LXA). The public is also notified that the Record of Decision for this action is available upon request.

FOR FURTHER INFORMATION CONTACT: Individuals wishing copies of the Record of Decision, or other supporting documents regarding this action, should contact William Vogel; U.S. Fish and Wildlife Service; 510 Desmond Drive; Suite 102; Lacey, Washington 98503; telephone (360) 753-9440.

SUPPLEMENTARY INFORMATION:

Background

Plum Creek has requested modification of the HCP to accommodate the new land-base resulting from enactment of the I-90LXA. The Services' decision is to adopt the Preferred Alternative, as described in the Final Supplemental Environmental Impact Statement (FSEIS). This decision is based on a thorough review of the alternatives and their environmental consequences. By adopting the Preferred Alternative with its assurances that the mitigation program and enforcement measures be implemented, all practicable means to avoid or minimize harm have been adopted.

The Proposed HCP Modification, as described in the proposed Modification Document and analyzed in the FSEIS, provides the most comprehensive package of conservation prescriptions and activities of all of the alternatives. None of the other alternatives provide as integrated and comprehensive a package of habitat conservation as the Proposed HCP Modification. The Proposed HCP Modification accommodates the new land-base and applies the prescriptive conservation measures to the newly acquired lands within the HCP Planning Area.

Dated: December 23, 1999.
William B. Zimmerman,
Regional Director, Region 1, U.S. Fish and Wildlife Service, Portland, Oregon.

Dated: February 4, 2000.
Wanda L. Cain,
Chief, Endangered Species Division, Office of Protected Resources, National Marine Fisheries Service.

[FR Doc. 00-3002 Filed 2-9-00; 8:45 am]

BILLING CODE 3510-22-F